DEPARTMENT OF TRANSPORTATION

Pipeline and Hazardous Materials Safety Administration

[Docket No. PHMSA-2014-0089; Notice No. 14-10]

Safety Advisory: Unauthorized Certification of Compressed Gas Cylinders

AGENCY: Pipeline and Hazardous Materials Safety Administration (PHMSA), DOT.

ACTION: Safety Advisory Notice.

SUMMARY: PHMSA is issuing this safety advisory to notify the public that any DOT-Specification or DOT-Special Permit high pressure compressed gas cylinder marked as complying with the Hazardous Materials Regulations (HMR) by Always Safe Fire Extinguisher and Safety, LLC (ASFES), Yonkers, New York is not authorized for the transportation of hazardous materials in commerce. ASFES has never been authorized by PHMSA to perform these regulatory functions.

FOR FURTHER INFORMATION CONTACT: Patrick Durkin, Hazardous Materials Investigator, Eastern Region, Office of Hazardous Materials Safety, Pipeline and Hazardous Materials Safety Administration, U.S. Department of Transportation, 820 Bear Tavern Road, Suite 306, West Trenton, NJ 08034. Telephone: (609) 989-2256, Fax: (609) 989-2277, or email: patrick.durkin@dot.gov.

SUPPLEMENTARY INFORMATION: Investigators from PHMSA's Office of Hazardous Materials Safety (OHMS) recently conducted a compliance inspection of Always Safe Fire Extinguisher and Safety, LLC (ASFES), 41 Lockwood Avenue, Yonkers, NY 10701. As a result of that inspection, PHMSA determined that ASFES marked an unknown number of high pressure compressed gas cylinders with unauthorized markings. In addition, ASFES did not have the requisite testing equipment and could not provide evidence to demonstrate that high pressure compressed gas cylinders were properly requalified in accordance with the Hazardous Materials Regulations (HMR; 49 CFR Parts 171-180).

ASFES was never approved by PHMSA to either requalify or mark DOT-specification or special permit cylinders as being requalified. The evidence suggests that ASFES stamped the month (2 digits) and year (2 digits) separated by a star, on DOT high pressure gas cylinders. Only high pressure cylinders serviced by ASFES bearing these markings are affected.

If the requalification is not performed in accordance with the HMR, or in accordance with the applicable special permit, a cylinder with compromised structural integrity may not be detected and may be returned to service when it should be condemned. Extensive property damage, serious personal injury, or death could result from rupture of a cylinder.

If DOT-Specification or DOT-Special permit cylinders have been serviced from ASFES from calendar years 2008 to present day, and have the marking described above (i.e., 2-digit month—star—2-digit year), these cylinders may not have been properly tested as prescribed by the HMR or by the applicable special permit. These cylinders should be considered unsafe and not authorized for the filling of hazardous material unless the cylinder is first properly tested by an individual or company authorized to requalify DOT specification and special permit cylinders.

Cylinders described in this safety advisory that are filled with an atmospheric gas should be vented or otherwise safely discharged. Cylinders that are filled with a material other than an atmospheric gas should not be vented but instead should be safely discharged. If a cylinder contains a hazardous material other than an atmospheric gas and the testing facility does not have the capability of safely removing the hazardous material, the requalifier must return the cylinder to the origin for proper discharge of the gas. For toxic gases in Hazard Zone A or B, the cylinder must be cleaned in accordance with the procedure described in CGA pamphlet C-10. Prior to refilling or continued use, the cylinders must be taken to a DOT-authorized cylinder requalifier to ensure their suitability for continued service. A list of authorized requalifiers may be obtained at this Web site: http://www.phmsa.dot.gov/hazmat/regs/sp-a/approvals/cylinders.

Magdy El-Sibaie,
Associate Administrator for Hazardous Materials Safety, Pipeline and Hazardous Materials Safety Administration.

[FR Doc. 2014-15601 Filed 7-2-14; 8:45 am]

BILLING CODE 4910-60-P